DEPARTMENT OF AGRICULTURE

Forest Service

Southwestern Region, Arizona, New Mexico, West Texas and Oklahoma: Proposed Land and Resource Management Plan Amendment for the Valle Vidal, Carson National Forest, Taos and Colfax Counties, NM; Additional Filings

AGENCY: Forest Service, USDA.

ACTION: Notice; correction.

SUMMARY: The USDA Forest Service published a Notice of Intent (70 FR 34441-34442, June 14, 2005) to prepare an environmental impact statement for a proposed forest plan amendment to incorporate standards and guidelines for the management of the Valle Vidal Unit of the Questa Ranger District, Carson National Forest.

CORRECTED DATES: The Notice of Intent (NOI) states the draft environmental impact statement (DEIS) is expected to be available for public review sometime in February or March 2006. This Notice corrects the estimated filing date of the DEIS from spring 2006 to summer 2007. At that time, the Environmental Protection Agency (EPA) will publish a Notice of Availability (NOA) of the DEIS in the Federal Register.

Additionally, the 2005 NOI states the comment period would be for 90 days. This Notice changes the length of the comment period to 60 days from the date the NOA is published in the Federal Register.

Completion date for the final environmental impact statement (FEIS) is subsequently corrected to reflect these changes. The NOI states the FEIS would be completed in September 2006. This Notice corrects the estimated completion date of the FEIS from September 2006 to winter 2007. When completed, EPA will publish a NOA of the FEIS in the Federal Register.

FOR FURTHER INFORMATION CONTACT: Audrey Kuykendall, Forest Environmental Coordinator, Carson National Forest, at (505) 758-6212.

Dated: May 8, 2007.
Martin D. Chavez, Jr.,
Forest Supervisor, Carson National Forest.

[FR Doc. E7-9283 Filed 5-14-07; 8:45 am]

BILLING CODE 3410-11-P